INTERNATIONAL TRADE COMMISSION

[Investigation 332-418]

Economic Impact on the United States of a U.S.-Jordan Free Trade Agreement

AGENCY: United States International Trade Commission.

ACTION: Institution of investigation and Notice of opportunity to submit comments.

EFFECTIVE DATE: June 19, 2000.

SUMMARY: Following receipt of a request on June 14, 2000, from the United States Trade Representative (USTR), pursuant to authority under section 332(g) of the Tariff Act of 1930, the Commission instituted investigation No. 332-418, Economic Impact on the United States of a U.S.-Jordan Free Trade Agreement.

FOR FURTHER INFORMATION CONTACT: Victoria Chomo (202-205-3125), Office of Economics, or William Gearhart of the Office of the General Counsel (202-205-3091) for information on the legal aspects of this investigation. Hearing impaired individuals are advised that information on this matter can be obtained by contacting the TDD terminal on (202) 205-1810.

Background

The USTR requested that the Commission's report include the following:

• An overview of the Jordanian economy;

• Data on Jordan's patterns of trade with the United States and its other major trade partners;

• A description of the tariff and investment relationship between the United States and Jordan; and

• An analysis of any sector where there are significant economic impacts from a U.S.-Jordan FTA.

The Commission plans to submit its report, Economic Impact on the United States of a U.S.-Jordan Free Trade Agreement, July 31, 2000. USTR indicated that the report will be classified as confidential.

Written Submissions

The Commission does not plan to hold a public hearing in connection with this investigation. However, interested persons are invited to submit written statements concerning matters to be addressed in the report. Commercial or financial information that a person desires the Commission to treat as confidential must be submitted on separate sheets of paper, each clearly marked “Confidential Business Information” at the top. The Commission's Rules do not authorize filing of submissions with the Secretary by facsimile or electronic means. All written submissions must conform with the provisions of section 201.8 of the Commission's Rules of Practice and Procedure (19 CFR 201.8). All submissions requesting confidential treatment must conform with the requirements of Section 201.6 of the Commission's Rules (19 CFR 201.6). All written statements, except for confidential business information will be made available for inspection by interested persons in the Office of the Secretary to the Commission. To be assured of consideration, written statements relating to the Commission's report should be submitted at the earliest possible date and should be received not later than July 7, 2000. All submissions should be addressed to the Secretary, United States International Trade Commission, 500 E Street, SW, Washington D.C. 20436.

Persons with mobility impairments who will need special assistance in gaining access to the Commission should contact the Office of the Secretary at 202-205-2000. General information concerning the Commission may also be obtained by accessing its Internet server (http://www.usitc.gov).

Issued: June 20, 2000.
By order of the Commission.
Donna R. Koehnke,
Secretary.

[FR Doc. 00-16097 Filed 6-23-00; 8:45 am]

BILLING CODE 7020-02-U